DEPARTMENT OF DEFENSE

Department of the Army

Intent To Grant an Exclusive License of U.S. Government-Owned Patents

AGENCY: Department of the Army, DoD.

ACTION: Notice.

SUMMARY: In accordance with applicable laws and regulations, announcement is made of the intent to grant an exclusive, non-royalty-bearing, revocable license.

ADDRESSES: Commander, U.S. Army Medical Research and Materiel Command, ATTN: Command Judge Advocate, MCMR-JA, 504 Scott Street, Fort Detrick, MD 21702-5012.

FOR FURTHER INFORMATION CONTACT: For licensing issues, Mr. Paul G. Michaels, Office of Research & Technology Applications, (301) 619-4145. For patent issues, Ms. Elizabeth Arwine, Patent Attorney, (301) 619-7808, both at telefax (301) 619-5034.

SUPPLEMENTARY INFORMATION: In accordance with 35 U.S.C. 209(e) and 37 CFR 404.7(a)(1)(i), announcement is made of the intent to grant an exclusive, non-royalty-bearing, revocable license to United States Patent Application US 15/723,448, filed October 3, 2017, entitled, “Aerosol Concentrating Apparatus for Use with Aerosol Aging Drum,” and Patent Cooperation Treaty Patent Application PCT/US2017/016845, filed February 7, 2017, entitled, “Oro-Nasal Inhalation Plethysmography Mask Exposure System,” and Patent Cooperation Treaty Patent Application PCT/US2017/016811, filed February 7, 2017, entitled, “Head-Only and/or Whole Body Inhalation Exposure Chamber” to PneumoDose, LLC, having its principal place of business at 112 Lynhaven Drive, Alexandria, VA 22305.

Anyone wishing to object to grant of this license can file written objections along with supporting evidence, if any, within 15 days from the date of this publication. Written objections are to be filed with the Command Judge Advocate (see ADDRESSES).

Brenda S. Bowen,
Army Federal Register Liaison Officer.

[FR Doc. 2018-15787 Filed 7-23-18; 8:45 am]

BILLING CODE 5001-03-P